DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: OFAC's actions described in this notice were applicable on July 28, 2017, as further specified below.

FOR FURTHER INFORMATION CONTACT: OFAC: Greg Gatjanis, Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treasury.gov/ofac).

Notice of OFAC Actions

On July 28, 2017, OFAC determined that the property and interests in property subject to U.S. jurisdiction of the following persons are blocked under the relevant sanctions authority listed below.

Entities

1. AMIR AL MO'MENIN INDUSTRIES (a.k.a. AMIR-AL-MO'MENIN COMPLEX; a.k.a. AMIROLMOMENIN FACTORIES; a.k.a. AMIROLMOMENIN INDUSTRIES), Esfahan, Iran; Additional Sanctions Information—Subject to Secondary Sanctions [NPWMD] [IFSR] (Linked To: SHAHID HEMMAT INDUSTRIAL GROUP).

Designated pursuant to section l(a)(iv) of Executive Order 13382 of June 28, 2005, “Blocking Property of Weapons of Mass Destruction Proliferators and Their Supporters” (“E.O. 13382”) for being owned or controlled by SHAHID HEMMAT INDUSTRIAL GROUP, a person whose property and interests in property are blocked pursuant to E.O. 13382.

2. SHAHID CHERAGHI INDUSTRIES, Iran; Additional Sanctions Information—Subject to Secondary Sanctions [NPWMD] [IFSR] (Linked To: SHAHID HEMMAT INDUSTRIAL GROUP).

Designated pursuant to section l(a)(iv) of E.O. 13382 for being owned or controlled by SHAHID HEMMAT INDUSTRIAL GROUP, a person whose property and interests in property are blocked pursuant to E.O. 13382.

3. SHAHID KALHOR INDUSTRIES, Iran; Additional Sanctions Information—Subject to Secondary Sanctions [NPWMD] [IFSR] (Linked To: SHAHID HEMMAT INDUSTRIAL GROUP).

Designated pursuant to section l(a)(iv) of E.O. 13382 for being owned or controlled by SHAHID HEMMAT INDUSTRIAL GROUP, a person whose property and interests in property are blocked pursuant to E.O. 13382.

4. SHAHID KARIMI INDUSTRIES, Iran; Additional Sanctions Information—Subject to Secondary Sanctions [NPWMD] [IFSR] (Linked To: SHAHID HEMMAT INDUSTRIAL GROUP).

Designated pursuant to section l(a)(iv) of E.O. 13382 for being owned or controlled by SHAHID HEMMAT INDUSTRIAL GROUP, a person whose property and interests in property are blocked pursuant to E.O. 13382.

5. SHAHID RASTEGAR INDUSTRIES, Iran; Additional Sanctions Information—Subject to Secondary Sanctions [NPWMD] [IFSR] (Linked To: SHAHID HEMMAT INDUSTRIAL GROUP).

Designated pursuant to section l(a)(iv) of E.O. 13382 for being owned or controlled by SHAHID HEMMAT INDUSTRIAL GROUP, a person whose property and interests in property are blocked pursuant to E.O. 13382.

6. SHAHID VARAMINI INDUSTRIES, Iran; Additional Sanctions Information—Subject to Secondary Sanctions [NPWMD] [IFSR] (Linked To: SHAHID HEMMAT INDUSTRIAL GROUP).

Designated pursuant to section l(a)(iv) of E.O. 13382 for being owned or controlled by SHAHID HEMMAT INDUSTRIAL GROUP, a person whose property and interests in property are blocked pursuant to E.O. 13382.

Dated: August 7, 2017.
Andrea M. Gacki,
Acting Director, Office of Foreign Assets Control.

[FR Doc. 2017-16912 Filed 8-16-17; 8:45 am]

BILLING CODE 4810-AL-P